DEPARTMENT OF THE INTERIOR

Bureau of Land Management

[L10300000.PH0000 19X LLWO220000]

Tribal and Alaska Native Biomass Demonstration Projects; Eligibility Criteria

AGENCY: Bureau of Land Management, Interior.

ACTION: Notice of availability.

SUMMARY: The Bureau of Land Management (BLM) is establishing eligibility and selection criteria for Tribal Biomass Demonstration Project and Alaska Native Biomass Demonstration Project proposals submitted for BLM-managed lands, as authorized by the Indian Tribal Energy Development and Self-Determination Act Amendments of 2017.

DATES: This Notice takes effect on January 15, 2020.

ADDRESSES: Additional information about this notice and program may be obtained on the internet at https://www.blm.gov/https%3A//www.blm.gov/programs/natural-resources/forests-and-woodlands/biomass-and-bioenergy/tribal-biomass.

FOR FURTHER INFORMATION CONTACT: Joe Tague, Division Chief, Forest, Range, Riparian, and Plant Conservation, telephone (202) 912-7222; email, jtague@blm.gov.

Persons who use a telecommunication device for the deaf may call the Federal Relay Service (FRS) at 1-800-877-8339 to contact Mr. Tague during normal business hours. The FRS is available 24 hours a day, 7 days a week, to leave a message or question regarding the project. You will receive a reply during normal business hours.

SUPPLEMENTARY INFORMATION:

Background

Section 202 of Public Law 115-325 amends the Tribal Forest Protection Act of 2004 (25 U.S.C. 3115(a) et seq.) for the purpose of establishing tribal and Alaska Native biomass demonstration projects for federally recognized Indian tribes and Alaska Native corporations to promote biomass energy production by providing reliable supplies of woody biomass from Bureau of Land Management and Forest Service lands.

For Tribal Biomass Demonstration Projects, the Act requires, for each of fiscal years 2017 through 2021, the Secretary of Agriculture and the Secretary of the Interior to enter into stewardship contracts or similar agreements (excluding direct service contracts) with Indian tribes to carry out at least four new demonstration projects to promote biomass energy production (including biofuel, heat, and electricity generation) on Indian forest land and in nearby communities by providing reliable supplies of woody biomass from Federal land.

For Alaska Native Biomass Demonstration Projects, the Act requires, for each of fiscal years 2017 through 2021, the Secretary of Agriculture and the Secretary of the Interior to enter into an agreement or contract with an Indian tribe or a tribal organization to carry out at least one new demonstration project to promote biomass energy production (including biofuel, heat, and electricity generation) by providing reliable supplies of woody biomass from Federal land.

Indian tribe means: Any Indian tribe, band, nation or other organized group or community, including any Alaska Native village or regional or village corporation as defined in or established pursuant to the Alaska Native Claims Settlement Act, which is recognized as eligible for the special programs and services provided by the United States to Indians because of their status as Indians. (25 U.S.C. 5304(e)).

Eligibility

To establish eligibility for a Tribal Biomass Demonstration Project, an Indian tribe (as defined at (25 U.S.C. 5304(e)) must submit an application with the following information:

(1) A description of the Indian forest land under the jurisdiction of the Indian tribe;

(2) A description and location of the biomass utilization facility including its annual biomass consumption and details related to the application evaluation criteria;

(3) A map depicting the BLM lands being proposed for harvest; and

(4) A harvest plan proposing the means to carry out the biomass harvest.

To establish eligibility for an Alaska Native Biomass Demonstration Project, an Indian tribe (as defined at (25 U.S.C. 5304(e)) needs to submit an application with the following information:

(1) A description and location of the biomass utilization facility, including its annual biomass consumption and details related to the application evaluation criteria;

(2) A map depicting the BLM lands being proposed for harvest; and

(3) A harvest plan proposing the means to carry out the biomass harvest.

The statute allows the Secretary of the Interior to establish additional criteria as needed. Such additional criteria will be posted on the website established for this purpose (see ADDRESSES).

The eligibility applications comprise a collection of information that requires a control number from the Office of Management and Budget (OMB) in accordance with the Paperwork Reduction Act (44 U.S.C. 3501-3521). An agency may not conduct or sponsor and a person is not required to respond to a collection of information unless it displays a currently valid OMB control number. For this reason, the BLM will request an OMB control number for these applications.

Application Evaluation Criteria

In accordance with the Act, the BLM will evaluate applications by assessing whether the proposed project would:

(1) Increase the reliability of local or regional energy;

(2) Enhance the economic development of the Indian tribe;

(3) Result in or improve the connection of electric power transmission facilities serving the Indian tribe with other electric transmission facilities;

(4) Improve the forest health or watersheds of Federal land or Indian forest or rangeland; or

(5) Otherwise promote the use of woody biomass.

Contracts and Agreements Selection

In accordance with the Act, when evaluating applications the BLM will also take into consideration the following factors:

(1) The status of the Indian tribe as an Indian tribe;

(2) The trust status of the Indian forest land or rangeland of the Indian tribe;

(3) The cultural, traditional, and historical affiliation of the Indian tribe with the land subject to the proposal;

(4) The treaty rights or other reserved rights of the Indian tribe relating to the land subject to the proposal;

(5) The indigenous knowledge and skills of members of the Indian tribe;

(6) The features of the landscape of the land subject to the proposal, including watersheds and vegetation types;

(7) The working relationships between the Indian tribe and Federal agencies in coordinating activities affecting the land subject to the proposal; and

(8) The access by members of the Indian tribe to the land subject to the proposal.

In accordance with the Act, the contract or agreement for a project must exclude from consideration any merchantable logs that have been identified for commercial sale.

Submitting an Application

A federally recognized tribe may submit an application to the BLM field office that has jurisdiction over the land where the project would occur. The application should contain the information outlined in the eligibility section of this notice.

Additional Information for Contract or Agreement Development

After receiving an application to verify eligibility, the BLM will work with the tribe as appropriate to obtain additional information necessary to develop the contract or agreement. The information may include, but is not limited to:

(1) A description of the harvesting methods, annual harvest tonnage, and transportation routes;

(2) A start date and duration of source area usage; and

(3) Information relevant to any necessary analysis of the project under the National Environmental Policy Act.

Casey Hammond,
Acting Assistant Secretary, Land and Minerals Management.

[FR Doc. 2020-00529 Filed 1-14-20; 8:45 am]

BILLING CODE 4310-84-P